DEPARTMENT OF HEALTH AND HUMAN SERVICES

Health Resources and Services Administration

National Advisory Committee on Rural Health and Human Services; Notice of Meeting

In accordance with section 10(a)(2) of the Federal Advisory Committee Act (Public Law 92-463), notice is hereby given that the following committee will convene its fifty-eighth meeting.

Name: National Advisory Committee on Rural Health and Human Services.

Dates and Times: February 20, 2008, 9 a.m.-5 p.m., February 21, 2008, 9 a.m.-4:30 p.m., February 22, 2008, 8:30 a.m.-10:30 a.m.

Place: The Sofitel Lafayette Square, 806 15th Street, NW., Washington, DC 20005, Phone: 202-730-8800.

Status: The meeting will be open to the public.

Purpose: The National Advisory Committee on Rural Health and Human Services provides advice and recommendations to the Secretary with respect to the delivery, research, development and administration of health and human services in rural areas.

Agenda: Wednesday morning, February 20, at 9 a.m., the meeting will be called to order by the Chairperson of the Committee, the Honorable David Beasley. Elizabeth M. Duke, Administrator of the Health Resources and Services Administration, has been invited to give opening remarks. The first presentation will be by Joan Ohl, Commissioner, Administration on Children, Youth and Families in the Administration for Children and Families. Other invited speakers are Jan McCarthy and Joyce Sabien, Child Protective Services and Mental Health Researchers, Georgetown University, and Thomas M. Dowd, Deputy Assistant Secretary, Employment and Training Administration, U.S. Department of Labor. The presentations will be followed by a Committee discussion. The Wednesday meeting will close at 5 p.m.

Thursday morning, February 21, at 9 a.m., the Committee will open with a presentation by Dr. Bob Berenson with The Urban Institute. This will be followed by a presentation from Cheryl Sparks with The Rural Community College Alliance. The Committee will break into Subcommittee format to discuss the topics presented and reconvene at 3 p.m. for a discussion of the Committee as a whole. The Thursday meeting will close at 4:30 p.m.

The final session will be convened Friday morning, February 22, at 8:30 a.m. There will be a review of the meeting and action items will be developed for the Committee members and staff. The Committee will draft the letter to the Secretary and discuss the June meeting. The meeting will be adjourned at 10:30 a.m.

FOR FURTHER INFORMATION CONTACT: Anyone requiring information regarding the Committee should contact Jennifer Chang, MPH, Executive Secretary, National Advisory Committee on Rural Health and Human Services, Health Resources and Services Administration, Parklawn Building, Room 9A-55, 5600 Fishers Lane, Rockville, MD 20857, Telephone (301) 443-0835, Fax (301) 443-2803.

Persons interested in attending any portion of the meeting should contact Michele Pray-Gibson, Office of Rural Health Policy (ORHP), Telephone (301) 443-0835. The Committee meeting agenda will be posted on ORHP's Web site: http://www.ruralhealth.hrsa.gov.

Dated: January 10, 2008.
Alexandra Huttinger,
Acting Director, Division of Policy Review and Coordination.

[FR Doc. E8-836 Filed 1-16-08; 8:45 am]

BILLING CODE 4165-15-P